DEPARTMENT OF THE INTERIOR

Fish and Wildlife Service

DEPARTMENT OF COMMERCE

National Oceanic and Atmospheric Administration

[RTID 0648-XB100]

Marianas Trench Marine National Monument; Monument Management Plan; Extension of Public Comment Period

AGENCY: Fish and Wildlife Service (FWS), Interior; National Oceanic and Atmospheric Administration (NOAA), Commerce.

ACTION: Notice; extension of comment period.

SUMMARY: The FWS and NOAA are extending by 60 days the comment period for a draft monument management plan (MMP) for the Marianas Trench Marine National Monument (Monument). The draft MMP describes proposed goals, objectives, and strategies for managing the Monument over a 15-year period.

DATES: The public comment period is extended by 60 days to July 26, 2021. Comments must be received by July 26 2021, as specified under ADDRESSES. Comments received after this date may not be accepted.

ADDRESSES: You may submit comments on this document, identified by NOAA-NMFS-2021-0003, by either of the following methods:

• Electronic Submission: Submit all electronic public comments via the Federal e-Rulemaking Portal. Go to http://www.regulations.gov/#!docketDetail;D=NOAA-NMFS-2021-0003, click the “Comment Now!” icon, complete the required fields, and enter or attach your comments.

• Mail: Send written comments to Superintendent, Marianas Trench Marine National Monument, P.O. Box 8134, MOU-3, Dededo, GU 96912.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The draft MMP includes an environmental assessment (EA) of the potential impacts of the MMP on the human environment. You may review the draft MMP and EA at www.regulations.gov.

FOR FURTHER INFORMATION CONTACT: Tammy Summers, FWS, (671) 355-5096, or Heidi Hirsh, NOAA, (808) 725-5016.

SUPPLEMENTARY INFORMATION: On February 24, 2021, NMFS published a notice of availability of a draft MMP for the Monument (86 FR 11238). Presidential Proclamation 8335 (January 12, 2009, 74 FR 1557) requires the Secretaries of the Interior and Commerce to prepare management plans and promulgate implementing regulations that address specific actions necessary for the proper care and management of the Monument.

The draft MMP includes elements similar to a National Wildlife Refuge System Comprehensive Conservation Plan (CCP), and we are conducting the planning process for those elements in a manner similar to the CCP planning and public involvement process. The National Wildlife Refuge System Administration Act of 1966 (Refuge Administration Act, 16 U.S.C. 668dd-668ee), as amended by the National Wildlife Refuge System Improvement Act of 1997, requires the FWS to develop a CCP for each national wildlife refuge. This draft MMP would incorporate CCP requirements and would define each agency's management roles and responsibilities.

The draft MMP lays out the goals, objectives, and proposed management activities for the next 15 years, consistent with sound principles of fish and wildlife management, conservation, legal mandates, and consistent with FWS and NMFS policies. The draft MMP includes an environmental assessment to evaluate the potential environmental impacts of implementing the MMP. The FWS and NMFS would review and update the MMP at least every 15 years, in accordance with the Refuge Administration Act.

More information about the Monument's history, wildlife, and habitats is available in a Notice of Intent published on April 5, 2011 (76 FR 18773).

The FWS and NMFS seek comments on the draft MMP and EA. We will consider comments received when deciding whether to approve or modify the MMP. The original public comment period for the notice of availability of the MMP was scheduled to close on May 25, 2021. In response to a request from Mr. Ralph D.L.G. Torres, Governor of the Commonwealth of the Northern Mariana Islands, the FWS and NMFS are extending the comment period for 60 days, and are accepting public comments through July 26, 2021. The public may submit comments as described under ADDRESSES.

Dated: May 18, 2021.
Jennifer M. Wallace,
Acting Director, Office of Sustainable Fisheries, National Marine Fisheries Service.

[FR Doc. 2021-10814 Filed 5-21-21; 8:45 am]

BILLING CODE 3510-22-P